INTERNATIONAL TRADE COMMISSION

[Investigation Nos. 731-TA-385 and 386 (Second Review)]

Granular Polytetrafluoroethylene Resin From Italy and Japan

AGENCY: United States International Trade Commission.

ACTION: Revised schedule for the subject reviews.

DATES: Effective August 15, 2005.

FOR FURTHER INFORMATION CONTACT: Fred Ruggles (202) 205-3187 or e-mail at fred.ruggles@usitc.gov, Office of Investigations, U.S. International Trade Commission, 500 E Street, SW., Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its Internet server (http://www.usitc.gov). The public record for these reviews may be viewed on the Commission's electronic docket (EDIS) at http://edis.usitc.gov.

SUPPLEMENTARY INFORMATION: On May 10, 2005, the Commission established a schedule for the conduct of the subject five-year reviews (70 FR 24613, May 10, 2005). Subsequently, the Commission determined to exercise its authority to extend the review period by up to 90 days pursuant to 19 U.S.C. 1675(c)(5)(B). Therefore, the Commission is revising its schedule for the reviews.

The Commission's new schedule for the reviews is as follows: The prehearing staff report will be placed in the nonpublic record on August 25, 2005, and a public version will be issued thereafter, pursuant to section 207.64 of the Commission's rules; the deadline for filing prehearing briefs is October 14, 2005; requests to appear at the hearing must be filed with the Secretary to the Commission not later than October 11, 2005; the prehearing conference will be held at the U.S. International Trade Commission Building at 9:30 a.m. on October 18, 2005; the hearing will be held at the U.S. International Trade Commission Building at 9:30 a.m. on October 25, 2005; the deadline for filing posthearing briefs is November 3, 2005; the Commission will make its final release of information on November 18, 2005; and final party comments are due on November 22, 2005.

For further information concerning these reviews see the Commission's notice cited above and the Commission's Rules of Practice and Procedure, part 201, subparts A through E (19 CFR part 201), and part 207, subparts A and C (19 CFR part 207).

Authority: These reviews are being conducted under authority of title VII of the Tariff Act of 1930; this notice is published pursuant to section 207.21 of the Commission's rules.

Issued: August 16, 2005.
By order of the Commission.
Marilyn R. Abbott,
Secretary to the Commission.

[FR Doc. 05-16543 Filed 8-19-05; 8:45 am]

BILLING CODE 7020-02-P